NUCLEAR REGULATORY COMMISSION

[NRC-2010-0181]

Final Regulatory Guide: Issuance, Availability

AGENCY: Nuclear Regulatory Commission.

ACTION: Notice of Issuance and Availability of Regulatory Guide (RG) 3.67, “Standard Format and Content for Emergency Plans for Fuel Cycle and Materials Facilities.”

FOR FURTHER INFORMATION CONTACT: Kevin M. Ramsey, U.S. Nuclear Regulatory Commission, Washington, DC 20555-0001, telephone: 301-492-3123 or e-mail Kevin.Ramsey@nrc.gov.

SUPPLEMENTARY INFORMATION:

I. Introduction

The U.S. Nuclear Regulatory Commission (NRC) is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses. Revision 1 of Regulatory Guide 3.67, “Standard Format and Content for Emergency Plans for Fuel Cycle and Materials Facilities” was issued for public comment in May 2010 with a temporary identification as Draft Regulatory Guide, DG-3039. The comment period ended on July 12, 2010 and the final guide was prepared considering the comments received.

This guide provides guidance acceptable to the NRC staff on the information to be included in emergency plans and establishes a format for presenting the information. Use of a standard format will help ensure uniformity and completeness in the preparation of emergency plans.

The NRC's regulations in 10 CFR part 30, “Rules of General Applicability to Domestic Licensing of Byproduct Material;” part 40, “Domestic Licensing of Source Material;” part 63, “Disposal of High-Level Radioactive Wastes in a Geologic Repository at Yucca Mountain, Nevada;” Part 70, “Domestic Licensing of Special Nuclear Material;” part 72, “Licensing Requirements for the Independent Storage of Spent Nuclear Fuel, High-Level Radioactive Waste, and Reactor-Related Greater Than Class C Waste;” and part 76, “Certification of Gaseous Diffusion Plants,” require some fuel cycle and materials licensees to prepare emergency plans. The information specified in this guide should be included in the licensee's emergency plan to comply with the requirements of 10 CFR 30.32(i)(3), 40.31(j)(3), 63.161, 70.22(i)(3), 72.32, and 76.91.

II. Further Information

In May 2010, DG-3039 was published with a public comment period of 60 days from the issuance of the guide. The public comment period closed on July 12, 2010. Electronic copies of Regulatory Guide 3.67, Revision 1 are available through the NRC's public Web site under “Regulatory Guides” at http://www.nrc.gov/reading-rm/doc-collections/. Electronic copies are also available in ADAMS (http://www.nrc.gov/reading-rm/adams.html), under Accession No. ML103360487. The regulatory analysis may be found in ADAMS under Accession No. ML103370659.

In addition, regulatory guides are available for inspection at the NRC's Public Document Room (PDR), Room O1-F21, One White Flint North, 11555 Rockville Pike, Rockville, Maryland 20852-2738. The PDR's mailing address is USNRC PDR, Washington, DC 20555-0001. The PDR can also be reached by telephone at 301-415-4737 or 1-800-397-4209, by fax at 301-415-3548, and by e-mail to pdr.resource@nrc.gov.

Regulatory guides are not copyrighted, and NRC approval is not required to reproduce them.

Dated at Rockville, Maryland, this 21st day of April 2011.
For the Nuclear Regulatory Commission.
Harriet Karagiannis,
Acting Chief, Regulatory Guide Development Branch, Division of Engineering, Office of Nuclear Regulatory Research.

[FR Doc. 2011-10559 Filed 4-29-11; 8:45 am]

BILLING CODE 7590-01-P